ENVIRONMENTAL PROTECTION AGENCY

[EPA-HQ-OAR-2007-0269; FRL-8441-6]

Agency Information Collection Activities; Proposed Collection; Comment Request; Transportation Conformity Determinations for Federally Funded and Approved Transportation Plans, Programs and Projects, EPA ICR No. 2130.03, OMB Control No. 2060-0561

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget(OMB). This ICR is scheduled to expire on December 31, 2007. Before submitting the ICR to OMB for review and approval, EPA is soliciting comments of the proposed information collection as described below.

DATES: Comments must be submitted on or before September 17, 2007.

ADDRESSES: Submit your comments, identified by Docket ID No. EPA-HQ-OAR-2007-0269, by one of the following methods:

• www.regulations.gov: Follow the on-line instructions for submitting comments. Or:

• Mail: (1) Air Docket, Environmental Protection Agency, Mailcode: 6102T, 1200 Pennsylvania Ave., NW., Washington, DC 20460. Attention Docket ID No. EPA-HQ-OAR-2007-0269, and (2) OMB at Office of Information and Regulatory Affairs, Office of Management and Budget (OMB), 725 17th Street, NW., Washington, DC 20503. Attention: Desk Officer for EPA.

Instructions: Direct your comments to Docket ID No. EPA-HQ-OAR-2007-0269. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Patty Klavon, State Measures and Conformity Group, Transportation and Regional Programs Division, U.S. Environmental Protection Agency, 2000 Traverwood Drive, Ann Arbor, MI 48105; telephone number: (734) 214-4476; fax number: (734) 214-4052; e-mail address: klavon.patty@epa.gov.

SUPPLEMENTARY INFORMATION:

I. General Information

A. How Can I Access the Docket and/or Submit Comments?

EPA has established a public docket for this ICR under Docket ID No. EPA-HQ-OAR-2007-0269, which is available for online viewing at www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is (202) 566-1744, and the telephone number for the Air Docket is (202) 566-1742.

Use www.regulations.gov to obtain a copy of the supporting statement which provides a detailed discussion of the need, use, costs, and methodology of the information collection, to submit or view public comments, to access the index listing of the contents of the docket, and to access those documents in the public docket that are available electronically. Once in the system, select “search”, then key in the docket ID number identified in this document.

B. In What Information Is EPA Particularly Interested?

Pursuant to section 3506(c)(2)(A) of the Paperwork Reduction Act (PRA), EPA specifically solicits comments and information to enable us to:

(i) Evaluate the accuracy of the Agency's estimate of the burden of the proposed collection of information, including the validity of the methodology and assumptions used;

(ii) Enhance the quality, utility, and clarity of the information to be collected; and

(iii) Minimize the burden of the collection of information on those who are to respond.

C. What Should I Consider When I Prepare My Comments for EPA?

You may find the following suggestions helpful for preparing your comments:

(1) Explain your views as clearly as possible and provide specific examples;

(2) Describe any assumptions that you used and why such assumptions are reasonable;

(3) Provide copies of any technical information and/or data you used that support your views;

(4) If you estimate potential burden or costs, explain how you arrived at the estimate that you provide;

(5) Offer alternative ways to improve the collection activity;

(6) Make sure to submit your comments by the deadline identified under DATES;

(7) To ensure proper receipt by EPA, be sure to identify the docket ID number assigned to this action in the subject line on the first page of your response. You may also provide the name, date, and Federal Register citation.

II. To What Information Collection Activity or ICR Does This Apply?

Affected entities: State and local entities potentially affected by this action are metropolitan planning organizations, local transit agencies, state departments of transportation, and state and local air quality agencies. Federal agencies potentially affected by this action include the Federal Highway Administration (FHWA), Federal Transit Administration (FTA) and EPA.

Title: Transportation Conformity Determinations for Federally Funded and Approved Transportation Plans, Programs and Projects.

ICR number: EPA ICR No. 2130.03, OMB Control No. 2060-0561.

ICR status: This ICR is scheduled to expire on December 31, 2007. EPA is soliciting comments on the draft information collection to renew the existing ICR.

An Agency may not conduct or sponsor, and a person is not required to respond to, a collection of information, unless it displays a currently valid OMB control number. The OMB control numbers for EPA's regulations in title 40 of the CFR, after appearing in the Federal Register when approved, are listed in 40 CFR Part 9.

Abstract: Transportation conformity is required under Clean Air Act section 176(c) (42 U.S.C. 7506(c)) to ensure that federally supported transportation activities are consistent with (“conform to”) the purpose of the state air quality implementation plan (SIP). Transportation activities include transportation plans, transportation improvement programs (TIPs), and federally funded or approved highway or transit projects. Conformity to the purpose of the SIP means that transportation activities will not cause new air quality violations, worsen existing violations, or delay timely attainment of the relevant national ambient air quality standards (NAAQS or “standards”).

Transportation conformity applies under EPA's conformity regulations at 40 CFR Part 93, subpart A, to areas that are designated nonattainment, and those redesignated to attainment after 1990 (“maintenance areas” with plans developed under Clean Air Act section 175A) for the following transportation-related criteria pollutants: ozone, particulate matter (PM2.5 and PM10), carbon monoxide (CO), and nitrogen dioxide (NO2). The EPA published the original transportation conformity rule on November 24, 1993 (58 FR 62188), and subsequently published several revisions. EPA develops the conformity regulations in coordination with FHWA and FTA.

Transportation conformity determinations are required before federal approval or funding is given to certain types of transportation planning documents as well as non-exempt highway and transit projects.¹

¹ Some projects are exempt from all or certain conformity requirements, see 40 CFR 93.126, 93.127, and 93.128.

EPA considered the following in renewing the existing ICR:

• Burden estimates for transportation conformity determinations in 8-hour ozone and PM2.5 nonattainment and maintenance areas, which made up EPA ICR 2130.02;

• Burden estimates for conformity determinations for CO, NO2, and PM10, which were previously included in DOT's ICR for Metropolitan and State-wide Transportation Planning (OMB Control Number 2132-0529); ²

² EPA, in consultation with DOT, concluded that it would be advantageous to join transportation conformity burden estimates for all pollutants into one ICR.

• Efficiencies associated with the Safe, Accountable, Flexible, Efficient Transportation Equity Act: A Legacy for Users (SAFETEA-LU), which was signed into law on August 10, 2005;

• Burden estimates for hypothetical areas that may be designated nonattainment for the revised 24-hour PM2.5 standard, which EPA promulgated on October 17, 2006 (71 FR 61144);

• Differences in conformity resource needs in large and small metropolitan areas and isolated rural areas; and

• Additional burden associated with EPA's adequacy review process for submitted SIP motor vehicle emissions budgets that are to be used in conformity determinations.

This ICR does not include burden associated with the general development of transportation planning and air quality planning documents for meeting other federal requirements.

Burden Statement

The annual burden for this collection of information that all state and local respondents incur is estimated to average 53,818 hours with a projected annual aggregate cost of $2,956,224.

The annual burden for this collection of information that federal agency respondents incur is estimated to average 16,371 hours with a projected annual aggregate cost of $899,259.

Finally, the bottom line burden to all federal, state, and local agency respondents over the 3-year period covered by this ICR is estimated at 210,567 hours, with a cost of approximately $11,566,445.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated Number of Respondents: This ICR estimates that approximately 177 Metropolitan Planning Organizations will incur burden associated with transportation conformity requirements.

Frequency of Response: The information collections described in this ICR must be completed before a transportation plan, TIP or project conformity determination is made. Per SAFETEA-LU and DOT's planning regulations, transportation plans and TIPs must be updated at least every four years; therefore, a conformity determination on the transportation plan and TIP in metropolitan areas is required at least every four years. Conformity determinations on projects in metropolitan and isolated rural areas are required on an as-needed basis.

Estimated Total Annual Hour Burden: The ICR estimates a total annual burden to all federal, state and local agency respondents over the three-year period covered by this ICR to be 70,189 hours/year. Total annual burden for state and local agencies alone is 53,818, while the total annual burden for federal agency respondents is 16,371.

Estimated Total Annual Cost: The total annual cost to all federal, state and local agency respondents over the three-year period covered by this ICR is estimated to be approximately $3,876,133/year. The annual cost for all state and local agencies is $2,956,224, while the annual cost portion for federal agency respondents is $899,259.

Changes in the Estimates: There is an increase of 29,063 hours in the total estimated state, local, and federal agency respondent burden compared with that identified in the ICR currently approved by OMB. This increase reflects the following adjustments and program changes:

(1) Program change associated with transfer of DOT ICR (OMB #2132-0529) to EPA ICR 2130.03.

(2) Adjustments associated with the implementation of transportation conformity provisions in SAFETEA-LU.

(3) Reduced burden from the previous ICR, which included substantial start-up burden for areas that had never done transportation conformity prior to PM2.5 and 8-hour ozone NAAQS. These areas now have experience with conformity.

(4) Other factors that have been updated since the existing ICR was approved.

III. What Is the Next Step in the Process for This ICR?

EPA will consider any comments we receive and amend the EPA ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB.

If you have any questions about this ICR or the approval process, please contact the technical person listed under the FOR FURTHER INFORMATION CONTACT section.

Dated: July 10, 2007.
Lori Stewart,
Acting Director, Transportation and Regional Programs Division, Office of Transportation and Air Quality.

[FR Doc. E7-14007 Filed 7-18-07; 8:45 am]

BILLING CODE 6560-50-P